DEPARTMENT OF DEFENSE

Department of the Air Force

Air University Board of Visitors Meeting

ACTION: Notice of meeting of Air University Board of Visitors.

SUMMARY: The purpose of the meeting is to give the board an opportunity to discuss Air University's proposed 2008 new board membership. Due to difficulties beyond the control of the Air University Board of Visitors the Department of the Air Force failed to process the Board's Federal Register meeting notice in sufficient time to publish notice of its meeting in the Federal Register for the 15-calendar days required by 41 CFR, 102-3.150(a). Accordingly, the Committee Management Officer for the Department of Defense, pursuant to 41 CFR 102-3.150(b), waives the 15-calendar day notification requirement.

DATES: The Air University Board of Visitors will hold an open meeting on August 27, 2007, 1 CDT, telephone conference call (electronic meeting), 1-334-953-1945.

FOR FURTHER INFORMATION CONTACT: Contact Dr. Dorothy Reed, Chief of Academic Affairs, Air University Headquarters, Maxwell Air Force Base, Alabama 36112-6335, telephone (334)-953-5159.

Bao-Anh Trinh,
Air Force Federal Register Liaison Officer.

[FR Doc. E7-16099 Filed 8-15-07; 8:45 am]

BILLING CODE 5001-05-P